FEDERAL COMMUNICATIONS COMMISSION

47 CFR Part 76

[CS Docket No. 95-178; FCC 99-116]

Definition of Markets for Purposes of the Cable Television Broadcast Signal Carriage Rules

AGENCY: Federal Communications Commission.

ACTION: Correcting amendments.

SUMMARY: This document makes a minor correction to part 76 of the Commission's rules pertaining to definition of markets which were published in the Federal Register, 64 FR 33796, June 24, 1999, regarding cable television broadcast signals.

DATES: Effective April 9, 2003.

FOR FURTHER INFORMATION CONTACT: Kenneth Lewis, Media Bureau (202) 418-2622.

SUPPLEMENTARY INFORMATION: The Order on Reconsideration and Second Report and Order, FCC 99-116, adopted May 21, 1999; released May 26, 1999, approved a final rule regarding the change of market definitions from Arbitron's areas of dominant influence to Nielsen Media Research's designated market areas for must-carry/retransmission elections. In this document we make a non-substantive change to update Nielsen Media Research's address in the publication of § 76.55(e)(2)(i) of the Commission's rules.

Need for Correction

As published, the final regulations contain an old address for Nielsen Media Research.

List of Subjects in 47 CFR Part 76

Cable television.

Accordingly, 47 CFR part 76 is corrected by making the following correcting amendments:

PART 76—MULTICHANNEL VIDEO AND CABLE TELEVISION SERVICE

1. The authority citation for part 76 continues to read as follows:

Authority: 47 U.S.C. 151, 152, 153, 154, 301, 302, 303, 303a, 307, 308, 309, 312, 315, 317, 325, 338, 339, 503, 521, 522, 531, 532, 533, 534, 535, 536, 537, 543, 544, 544a, 545, 548, 549, 552, 554, 556, 558, 560, 561, 571, 572, 573.

§ 76.35 [Amended]

2. In § 76.55, in paragraph (e)(2)(i), “299 Park Avenue” is revised to read “770 Broadway”.

Federal Communications Commission.
Marlene H. Dortch,
Secretary.

[FR Doc. 03-8577 Filed 4-8-03; 8:45 am]

BILLING CODE 6712-01-P